DEPARTMENT OF AGRICULTURE

Grain Inspection, Packers and Stockyards Administration

9 CFR Part 205

RIN 0580-AA93

Clear Title Technical Changes

AGENCY: Grain Inspection, Packers and Stockyards Administration, USDA.

ACTION: Interim rule.

SUMMARY: We are issuing this interim rule to allow States to use an approved unique identifier as an alternative to a social security number or taxpayer identification number in their systems providing clear title information. We are making additional changes to the clear title regulations as required by amendments made by the 2002 Farm Bill. The primary effect of these changes will be to protect the identity of the producers of farm products. Secondary effects of the technical changes will be to improve the operation of the program and provide the States with more flexibility.

DATES: Effective Date: September 27, 2006.

Comment Date: We will consider comments that we receive by November 27, 2006.

ADDRESSES: We invite you to submit comments on this rule. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

• Federal eRulemaking Portal: Go to http://www.regulation.gov. Follow the on-line instruction for submitting comments.

To read comments: All comments received will be made available for public review at the above address during regular business hours (7 CFR 1.27(b)).

FOR FURTHER INFORMATION CONTACT: Jens Knutson, Economist, Industry Analysis Division, USDA GIPSA, (202) 720-3128 or e-mail at Jens.N.Knutson@usda.gov.

SUPPLEMENTARY INFORMATION: The Grain Inspection, Packers and Stockyards Administration (GIPSA) administers the clear title program for the Secretary of Agriculture. The clear title program is authorized by Section 1324 of the Food Security Act of 1985 (7 U.S.C. 1631) and requires that States implementing a central filing system for notification to the public of liens on farm products must have such systems certified by the Secretary of Agriculture. When someone purchases a farm product in one of the 19 states that currently have certified central filing systems, they can check for liens against that farm product through the State's central filing system. USDA, through GIPSA's Packers and Stockyards Program, certifies the State's Central Filing System.

Our regulations in 9 CFR part 205 (regulations) provide guidance to the States about the requirements for their clear title program and requirements for approval of their systems.

Changes to the Regulations

This interim final rule encompasses several changes to our clear title regulations that are mandated by changes to the clear title authorizing legislation. We discuss in the following section changes to authorizing legislation that require changes to our current clear title regulations and then identify the regulatory changes to be made. The changes are presented by topic rather than by section. Then, at the end of this document, we present the complete changes to 9 CFR part 205, Clear Title—Protection for Purchasers of Farm Products, which this interim rule implements.

Section 776 of Division A, Title VII, Public Law 108-447, amended Section 1324(c) of the Food Security Act of 1985 (7 U.S.C. 1631(c)) for the privacy protection of certain sellers of farm products to allow States to use “an other approved unique identifier” as an alternative to a social security number or Internal Revenue Service (IRS) taxpayer identification number in their systems providing clear title information. The amendment further specified that the term “approved unique identifier” means “a number, combination of numbers and letters, or other identifier selected by the Secretary of State using a selection system or method approved by the Secretary of Agriculture.”

One of the requirements in our current regulations is that the social security number or an IRS taxpayer identification number of the debtor must be provided. Sections 205.103 and 205.105 require (1) the social security number or IRS taxpayer identification number be included as necessary information on an effective financing statement (EFS) filed with the State and (2) the master list developed by the State must be able to be delivered to a registrant in numerical order by social security number or IRS taxpayer identification number.

We are revising the regulations to implement the addition of “an other approved unique identifier” made in the authorizing legislation. We considered the option of specifying what an approved unique identifier would be, but decided to allow each State the flexibility to request approval of the method or system used to select a unique identifier that will work best in its clear title program.

We have been in contact in recent months with several States interested in amending their clear title systems and believe sufficient interest exists in States' implementation of the legislatively-mandated changes to the clear title program—including the use of an approved unique identifier as an alternative to a social security or IRS taxpayer identification number in a State's EFS and clear title master list—to warrant this interim final rule at this time. If States opt to discontinue the publication of social security numbers as a means of identification in States' clear title master lists, the resulting increased privacy protection will benefit individuals identified in those master lists. Discontinuing the publication of social security numbers is an increasing practice in regulatory and business transactions throughout the United States.

We are making the following changes in the clear title regulations to allow the use of an approved unique identifier in the certified State systems providing clear title information:

• In section 205.1, Definitions, we are adding a definition for “approved unique identifier”.

• In section 205.101, Certification—request and processing, we are adding a new paragraph (b)(11) to show what the State will be required to provide when applying to us for certification of its central filing system when it will use an approved unique identifier.

• In section 205.103, EFS—minimum information, we are revising paragraph (a)(5) to allow either a social security number, IRS taxpayer identification number, or other approved unique identifier of each debtor be included in the minimum information necessary on an EFS.

• In section 205.105, Master list and portion thereof distributed to registrants—format, we are revising paragraph (a) to allow an approved unique identifier to be used in place of a social security number or IRS taxpayer identification number for the numerically ordered information that the State's system must report.

Revisions to the regulations are also needed to correspond to the 2002 Farm Bill amendments. The 2002 Farm Bill amendments to Section 1324 of the Food Security Act relate to electronic filing, EFS content, and Central Filing System procedure. The intent of these amendments was to relax some signature requirements, clarify terms, and facilitate electronic filing of lenders' security interests. These technical modifications will improve the operation of the program and provide the States with more flexibility.

Specifically, the legislation:

(1) Allows the non-electronically reproduced copy of the EFS to be signed, authorized, or otherwise authenticated by the debtor and filed by the secured party in place of the requirement for the statement to be signed by both the debtor and the secured party and filed by the secured party;

(2) Allows the written amendments to the EFS to be signed, authorized, or otherwise authenticated by the debtor in place of the requirement for the statement to be signed and filed;

(3) Allows notices that an EFS has lapsed to be signed, authorized, or otherwise authenticated by the secured party in place of the requirement for the notice to be signed by the secured party;

(4) Allows the EFS to identify the county or parish in which the farm product is produced or located, instead of requiring a reasonable description of the property;

(5) Allows the written notice of the security interest to identify the county or parish in which the farm product is produced or located, instead of requiring a reasonable description of the property;

(6) Allows the written amendments to the security interest notice to be signed, authorized, or otherwise authenticated in place of the requirement for the amendment to be signed;

(7) Allows notice of lapse of the written notice of the security interest to be signed, authorized, or otherwise authenticated in place of the requirement for the notice to be signed;

(8) Allows the notice of security interest to the commission merchant or selling agent to identify the county or parish in which the farm product is produced or located, instead of requiring a reasonable description of the property;

(9) Allows the written amendments to the notice of security interest to the commission merchant or selling agent to be signed, authorized, or otherwise authenticated in place of the requirement for the statement to be signed; and

(10) Allows the notice that the statement related to security interest has lapsed to be signed, authorized, or otherwise authenticated by the secured party in place of the requirement for the statement to be signed by the secured party.

In addition, the following miscellaneous nonsubstantive changes were made to the legislation:

a. Redesignated subsections after deleting a subsection,

b. inserted “contains” to start two subsections,

c. changed references to “subparagraphs” to “subsections,”

d. replaced “; and” with a period in a final subsection, and

e. inserted the word “and” at the end of the next to the last subsections.

Our regulations currently include requirements about the information of the location of farm products related to the county or parish in which the farm product is produced and require a reasonable description of the property. We are making the following changes in the clear title regulations to correspond to the changes made in the legislation in reference to the location of the farm products:

• In section 205.103, EFS—minimum information, we are revising paragraph (a)(3) to allow the locations of the farm product to be included in the minimum information necessary on an EFS to be an identification of each county or parish in the same State where the farm product is produced or located.

• In section 205.104, Registration of buyer, commission merchant, or selling agency—minimum information, we are revising paragraph (a)(3) by adding the words “or located” after the word “produced.”

• In section 205.105, Master list and portion thereof distributed to registrants—format, we are revising paragraph (a) to allow the State's system to deliver information for any farm product produced or located in any county or parish of the State.

• In section 205.207, “Amount” and “reasonable description of the property,” we are revising the heading to refer to the county or parish in which the property is located instead of a reasonable description of the property.

• In section 205.207, “Amount” and “county or parish,” we are revising paragraph (a) to specify that the county or parish in which the product is located or produced does not need to be shown on every EFS and master list entry.

• In section 205.207, “Amount” and “county or parish,” we are revising paragraph (c) to allow the option for any EFS and master list entry to identify each county or parish in which the farm product is produced or located.

• In section 205.207, “Amount” and “county or parish,” we are revising paragraph (e) to describe what additional information about the amount is sufficient.

• In section 205.210, Effect of EFS outside State in which filed, we are revising paragraph (b) to expand the ability to file an EFS to cover products in the system for the State in which it is produced or located.

Currently, the regulations require the secured party and debtor to sign an EFS filed on paper with the State and EFS amendments filed on paper documents. We are making the following changes in the clear title regulations to correspond to changes made in the legislation in reference to allowing alternatives to signatures and other changes related to options to providing information on paper, such as electronic information:

• In section 205.202, “Effective financing statement” or EFS, we are revising paragraph (b) to require an EFS to be signed, authorized, or otherwise authenticated only by the debtor.

• In section 205.209, Amendment or continuation of EFS, we are revising paragraph (c) to specify that if an amendment is filed on a paper document that it must be signed, authorized, or otherwise authenticated only by the debtor.

• In section 205.209, Amendment or continuation of EFS, we are revising paragraph (d) to specify that a continuation statement to continue the effective period of an EFS for 5 years need not be signed, authorized, or otherwise authenticated by the debtor.

Our current regulations refer to sections of the authorizing legislation that were renumbered in the 2002 Farm Bill amendments. We are making the following corrections in the clear title regulations to correspond to changes made in the legislation:

• In sections 205.106, 205.206, and 205.207, we are correcting the references to subsection (c)(4)(D)(iv) to refer to subsection (c)(4)(C)(iv).

• In section 205.107, we are correcting the reference to subsection (c)(4)(F) to refer to subsection (c)(4)(E).

• In section 205.203, we are correcting the reference to subsection (c)(4)(D) to refer to subsection (c)(4)(C).

• In section 205.205, we are correcting both of the references to subsection (c)(4)(H) to refer to subsection (c)(4)(G).

• In section 205.209, we are correcting both of the references to subsection (c)(4)(E) to refer to subsection (c)(4)(D).

We are also making several nonsubstantive changes to our regulations. In keeping with the guidance the Office of the Federal Register provides for listing definitions, we are deleting the lettered paragraph designations for the definitions in section 205.1 and rearranging the definitions in alphabetical order of the terms being defined.

Information collection activities, which include recordkeeping, reporting, and third party disclosure, are reviewed and approved by the Office of Management and Budget (OMB). We have approval from OMB for the information collection activities related to the clear title program; this approval was granted under OMB control number 0580-0016. OMB grants information collection approval for no more than 3 years at a time; the current approval for the clear title program expires on November 30, 2007. To comply with the requirement to display the control numbers assigned by OMB approving the information collection activities, we are adding the control number at the end of sections 205.101, 205.102, 205.103, 205.104, 205.105, 205.106, 205.107, 205.202, 205.203, 205.204, 205.206, 205.207, 205.208, 205.209, and 205.213 for which the information collection activities have been approved.

Section 1324 of the Food Security Act of 1985 is the authorizing legislation for the clear title program. Throughout the regulations in 9 CFR part 205 the term “the Section” is used, as defined in 9 CFR 205.1, to mean Section 1324 of the Food Security Act of 1985. In the regulation in 9 CFR 205.101 (e), the term “the Act” is used, without having been defined or any other clarifying information. For consistency with the rest of the clear title regulations, we are replacing the term “the Act” with the term “the Section” both times it appears in 9 CFR 205.101 (e).

Finally, we are making minor editorial corrections in sections 205.101 and 205.206. In section 205.101, we are (1) inserting a serial comma in the list in paragraph (11)(ii) and (2) correcting the reference to the Agency and program in paragraph (c). In section 205.206, we are removing an unnecessary comma.

Interim Rule

We are issuing an interim rule with request for comments rather than a proposed rule because the Federal statutory language governing the operation of States' clear title programs, and hence GIPSA's certification of these programs, has changed, and GIPSA's clear title regulations must reflect these statutory changes. Further, there is a strong public interest in issuing this rule as an interim rule. Several States have contacted GIPSA in recent months with requests to approve amendments to their clear title programs that reflect some, if not all, of the statutory changes governing the operation of the clear title program. GIPSA has approved all such State requests to amend their clear title requirements if the amendments adhere to the amended statutory language governing clear title programs. Additionally, GIPSA believes the regulatory changes in this interim rule are in the public interest to the extent they reduce the possibility of identity theft by allowing the use of approved unique identifiers in lieu of social security numbers or IRS taxpayer identification numbers in States' published clear title master lists. The regulatory changes are also in the public interest in that they facilitate timelier and less restrictive operation of States' clear title programs.

Executive Order 12866 and Regulatory Flexibility Act

The Office of Management and Budget (OMB) designated this interim rule as not significant for the purposes of Executive Order 12866. This interim rule changes GIPSA's clear title regulations by allowing the use of approved unique identifiers in place of the former requirement that States use debtors' social security numbers or IRS taxpayer identification numbers. The interim rule also makes changes to the clear title regulations as required by amendments made by the 2002 Farm Bill. These Farm Bill technical changes to the clear title program (1) facilitate electronic transmission of lien notices in States that have adopted central filing systems for farm products by no longer requiring signatures of the secured party and debtor, (2) alter the required description of products by allowing notices to indicate where a product is produced or located rather than only where it is produced, and (3) incorporate minor editorial changes.

The parties primarily affected by the changes are producers and purchasers of farm products, State Secretaries of State in those States operating GIPSA-certified clear title central filing systems, and lending institutions in States or operating in States that have GIPSA-certified clear title central filing systems. There are 19 States currently operating clear title central filing systems certified by GIPSA. Some of these States’ clear title central filing systems cover all farm products produced in the State, while other State’s systems cover only certain farm products. A listing of the States with GIPSA-certified clear title certified central filing systems is available through the Internet on the GIPSA Web site (go to http://www.gipsa/usda/gov, click on “Learn About Clear Title Farm Products,” go to“Regulations Under the Food Security Act”at the bottom of the page and then click on the highlighted “Clear Title Notices”). Farm products covered by a State’s clear title central filing system are also identified through the GIPSA Web site.

This interim rule’s most significant benefit is enhanced protection of the personal identities of debtors, primarily producers of farm products, whose social security numbers or, if they are incorporated as a business, IRS taxpayer identification numbers are now provided on States’ master lists. These master lists, whose purpose is to provide buyers of farm products the ability to check for liens against the farm product the buyer is interested in, are made available to the public in different ways by different States. By providing States the alternative of identifying debtors by an approved unique identifier other than by social security number or IRS taxpayer identification number, GIPSA believes this interim rule mitigates the risk of identity theft.

The producers of farm products, generally the debtors in a State’s central filing system, and lenders will also benefit from the added flexibility of not having to sign an EFS and related documents, thus facilitating their ability to file these documents. The ability to authorize or otherwise authenticate the EFS may also save them time and money in reproduction and delivery expenses. This interim rule’s revision of some current signature requirements, which will enhance a lender’s electronic filing of security interests, and the interim rule’s simplification of the description of the location of the farm product should also enhance the timeliness and effectiveness of both a State’s operation of, and a farm product buyer’s use of, a State’s GIPSA-certified clear title central filing system.

Costs to implement this interim rule’s changes will fall primarily on State Departments of State that maintain GIPSA-certified clear title central filing systems. Costs associated with implementing the changes specified in this interim rule involve the States’ development of unique identifiers, changing how debtor’s and lender’s documents can be submitted to the States, and approval by GIPSA of these modified clear title central filing systems if the changes take the form of amendments to a GIPSA-certified clear title central filing system. If the changes result in a State developing a new central filing system, that system will have to be certified by GIPSA. We believe most State changes will come to GIPSA as requests for amendments to existing central filing systems. Given the variety of State-specific systems, it is difficult to estimate the cost of these changes, but we expect each State that decides to implement changes will do so in the most cost effective way for its system. State Departments of State are not classified as small entities.

Lenders to producers of farm products may experience some costs, which GIPSA anticipates should be relatively small in those instances where they do arise, in converting their systems to accommodate a State’s choice to use approved unique identifiers as an alternative to social security numbers. We do not know how many lenders might be affected by these changes, and have no reason to believe that small lenders will be unduly affected by them relative to larger lenders. The Small Business Administration (SBA) identifies small business size standards for business entities grouped according to the North American Industry Classification System (NAICS) codes, and has identified small business lending institutions for commercial banking (NAICS subsector 445) as those entities with assets of $165 million or less. Small business consumer lending and mortgage and non-mortgage loan brokers (NAICS 522291 and 522310, respectively) have assets of $6.5 million or less. GIPSA believes the costs to lenders to accommodate a State?s choice to use approved unique identifiers, whatever they might be, will be offset by the lenders’ cost and time savings associated with changed signature requirements that facilitate timelier and more efficient transmission of an EFS.

Producers of farm products and buyers of farm products should experience no additional costs associated with this interim rule. The majority of these producers and buyers of farm products are small entities.

The SBA small business size standards vary for producers of farm products, based on the products, but for most agricultural producers the small business threshold is $0.75 million in annual receipts for crop and animal production (NAICS 111110—112990). The 2002 Agricultural Census reported 2,100,309 farms had annual sales of farm products totaling less than $1 million, which is the census’ closest sales category to SBA’s definition of small business producers of farm products having annual receipts less than $0.75 million. These small business farms accounted for 98 percent of all farms reported in the census.

Many buyers of farm products will be the same producers discussed above, the majority of whom SBA defines as small entities. SBA’s small business size standards for other buyers of farm products vary depending on industry sector, and within sectors on the type of company. For example, SBA’s small business threshold for food manufacturers (NAICS subsector 311) can be 500, 750, or 1,000 employees, depending on the type of food manufacturer. SBA’s small business threshold for merchant wholesalers of non-durable goods (NAICS subsector 424) is 100 employees. SBA’s small business thresholds for food and beverage stores are $6.5 million and $25 million, depending on the type of store.

Small entities affected by this interim rule include primarily producers of farm products who will no longer have their social security numbers posted for public viewing by State certified central filing system that opt to use an other approved unique identifier.

GIPSA foresees no substantive change to reporting or recordkeeping burden imposed on small entities resulting from this interim rule.

Therefore, I certify that this interim rule will have no significant economic impact on a substantial number of small entities, as required by the Regulatory Flexibility Act (5 U.S.C. 601-612).

Executive Order 12988

This interim rule has been reviewed under E.O. 12988, Civil Justice Reform, and is not intended to have retroactive effect. This interim rule will not pre-empt State or local laws, regulations, or policies unless they present an irreconcilable conflict with this interim rule. There are no administrative procedures that must be exhausted prior to any judicial challenge to the provisions of this interim rule.

Paperwork Reduction Act

In accordance with the Paperwork Reduction Act of 1995 (44 U.S.C. 3501—3520), the information collection or recordkeeping requirements included in this rule have been approved by the Office of Management and Budget (OMB) under OMB control number 0580-0016. This interim rule will add the OMB control number at the end of each section of the regulations previously approved for information collection activities.

E-Government Act Compliance

We are committed to complying with the E-Government Act, to promote the use of the Internet and other information technologies to provide increased opportunities for citizen access to Government information and services, and for other purposes.

List of Subjects in 9 CFR Part 205

Agricultural commodities, Archives and records, Intergovernmental relations, Reporting and recordkeeping requirements.

For the reasons set forth in the preamble, GIPSA amends 9 CFR part 205 as follows:

PART 205—CLEAR TITLE—PROTECTION FOR PURCHASERS OF FARM PRODUCTS

1. Revise the authority citation to read as follows:

Authority: 7 U.S.C. 1631; 7 CFR 2.22 and 2.81.

2. Amend § 205.1 as follows:

a. Remove paragraph designations (a) through (i) and arrange the terms in alphabetical order.

b. Add a definition of “approved unique identifier,” in alphabetical order, to read as follows:

§ 205.1 Definitions.

* * * * *

Approved Unique Identifier means a number, combination of numbers and letters, or other identifier selected by the Secretary of State using a selection system or method approved by the Secretary of Agriculture.

* * * * *

3. Amend § 205.101 as follows:

a. Remove the word “and” at the end of paragraph (b)(10).

b. Redesignate paragraph (b)(11) as paragraph (b)(12).

c. Add new paragraph (b)(11) to read as set forth below.

d. In newly redesignated paragraph, (b)(12)(ii), add a comma after the word “rules”.

e. In paragraph (c), remove the words “Grain Inspection, Packers and Stockyards Administration Packers and Stockyards Programs” and add the words “Packers and Stockyards Program, Grain Inspection, Packers and Stockyards Administration (GIPSA)” in their place.

f. In paragraph (e), removing the words “the Act” and adding the words “the Section” in their place both times they appear.

g. At the end of the section, add an information collection citation to read as follows:

§ 205.101 Certification—request and processing.

* * * * *

(b) * * *

(11) If a unique identifier will be used in the system, explain how the unique identifier will be selected and how it will be used by the system, including, but not limited to, how lists will be organized, and how searches may be performed, using the unique identifier.

* * * * *

(Approved by the Office of Management and Budget under control number 0580-0016)

4. Amend § 205.102 by adding an information collection citation at the end of the section to read as follows:

§ 205.102 Name of person subjecting a farm product to a security interest, on EFS and master list—format.

* * * * *

(Approved by the Office of Management and Budget under control number 0580-0016)

5. Amend § 205.103, as follows:

a. Revise paragraph (a)(3) to read as set forth below.

b. Revise paragraph (a)(5), to read as set forth below.

c. Amend § 205.103 by adding an information collection citation at the end of the section to read as set forth below:

§ 205.103 EFS—minimum information.

(a) * * *

(3) Each county or parish in the same State where the farm product is produced or located;

(4) * * *

(5) Social security number or other approved unique identifier or, if other than a natural person, IRS taxpayer identification number or other approved unique identifier of each such person;

* * * * *

(Approved by the Office of Management and Budget under control number 0580-0016)

6. Amend § 205.104 as follows:

a. In paragraph, (a)(3), add the words ``or located'' after the word ``produced''.

b. At the end of the section, add an information collection citation to read as follows:

§ 205.104 Registration of buyer, commission merchant, or selling agent—minimum information.

* * * * *

(Approved by the Office of Management and Budget under control number 0580-0016)

7. Amend § 205.105 as follows:

a. In paragraph (a), in the first sentence, add the words “or located” after the word ``produced''.

b. In paragraph (a), in both of the following places in the last sentence, add the words ``or approved unique identifier'' after ``in numerical order by social security number'' and after ``IRS taxpayer identification number''.

c. At the end of the section, add an information collection citation to read as follows:

§ 205.105 Master list and portion thereof distributed to registrants—format.

* * * * *

(Approved by the Office of Management and Budget under control number 0580-0016)

8. Amend § 205.106 as follows:

a. Remove the words ``subsection (c)(4)(D)(iv)'' and add the words ``subsection (c)(4)(C)(iv)'' in their place.

b. At the end of the section, add an information collection citation to read as follows:

§ 205.106 Farm products.

* * * * *

(Approved by the Office of Management and Budget under control number 0580-0016)

9. Amend § 205.107

a. In paragraph (b), remove the words ``subsection (c)(4)(F)'' and add the words ``subsection (c)(4)(E)'' in their place.

b. At the end of the section, add an information collection citation to read as follows:

§ 205.107 Crop year.

* * * * *

(Approved by the Office of Management and Budget under control number 0580-0016)

10. Amend § 205.202 as follows:

a. In paragraph (b), remove the words ``signed by both the secured party and the debtor,'' and add the words ``signed, authorized, or otherwise authenticated by the debtor'' in their place.

b. At the end of the section, add an information collection citation to read as follows:

§ 205.202 “Effective financing statement” or EFS.

* * * * *

(Approved by the Office of Management and Budget under control number 0580-0016)

11. Amend § 205.203 as follows:

a. Remove the words ``subsection (c)(4)(D)'' and add the words ``subsection (c)(4)(C)'' in their place.

b. At the end of the section, add an information collection citation to read as follows:

§ 205.203 Place of filing EFS.

* * * * *

(Approved by the Office of Management and Budget under control number 0580-0016)

12. Amend § 205.204 by adding at the end of the section an information collection citation to read as follows:

§ 205.204 Filing “notice” of EFS.

* * * * *

(Approved by the Office of Management and Budget under control number 0580-0016)

§ 205.205 [Amended]

13. Amend § 205.205, by removing the words ``subsection (c)(4)(H)'' and adding the words ``subsection (c)(4)(G)'' in their place both times they appear.

14. Amend § 205.206 as follows:

a. In paragraph (a), remove the comma immediately after the words ``subsection (c)(2)''; remove the words ``subsection (c)(4)(D)(iv)'' and add the words ``subsection (c)(4)(C)(iv)'' in their place.

b. At the end of the section, add an information collection citation to read as follows:

§ 205.206 Farm products.

* * * * *

(Approved by the Office of Management and Budget under control number 0580-0016)

15. Amend § 205.207 as follows:

a. Revise the section heading to read as set forth below.

b. In paragraph (a), remove the words ``and “reasonable description of the property including county or parish,”'' and add the words ``and “county or parish,”'' in their place.

c. In paragraph (a), remove the words ``subsections (c)(4)(D)(iv)'' and add the words ``subsection (c)(4)(C)(iv)'' in their place.

d. In paragraph (c), remove the words ``product is or is to be produced'' and add the words ``product is produced or located'' in their place.

e. In paragraph (e), in the first sentence, remove the words ``and property''.

f. In paragraph (e), in the last sentence, remove the words ``and location''.

g. At the end of the section, add an information collection citation to read as follows:

§ 205.207 “Amount” and “County or parish”.

* * * * *

(Approved by the Office of Management and Budget under control number 0580-0016)

16. Amend § 205.208 by adding at the end of the section an information collection citation to read as follows:

§ 205.208 Distribution of portions of master list—registration—information to non-registrants on request.

* * * * *

(Approved by the Office of Management and Budget under control number 0580-0016)

17. Amend § 205.209 as follows:

a. In paragraph (a), remove the words ``subsection (c)(4)(E)'' and add the words ``subsection (c)(4)(D)'' in their place.

b. Revise paragraph (c), to read as set forth below.

c. In paragraph (d), remove the words ``contain the signature of the debtor'' and add the words ``be signed, authorized, or otherwise authenticated by the debtor'' in their place.

d. At the end of the section, add an information collection citation to read as follows:

§ 205.209 Amendment or continuation of EFS.

* * * * *

(c) The amendment must be filed in the same manner as the original filing. Note the requirement of subsection (c)(4)(D). The amendment may be filed electronically provided a State allows electronic filing of financing statements without the signature of the debtor under applicable State law under provisions of the Uniform Commercial Code. An electronically filed amendment need not be signed. However, if an original or reproduced paper document is filed, the amendment must be signed, authorized, or otherwise authenticated by the debtor, and be filed by the secured party.

* * * * *

(Approved by the Office of Management and Budget under control number 0580-0016)

§ 205.210 [Amended]

18. Amend § 205.210, in paragraph, (b), add the words “or located” after the word “produced” both times it appears.

19. Amend § 205.213 by adding an information collection citation at the end of the section to read as follows:

§ 205.213 Obligations subject—“person indebted”—“debtor”.

* * * * *

(Approved by the Office of Management and Budget under control number 0580-0016)

James E. Link,
Administrator, Grain Inspection, Packers and Stockyards Administration.

[FR Doc. 06-8268 Filed 9-26-06; 8:45 am]

BILLING CODE 3410-KD-P